DEPARTMENT OF THE TREASURY

Community Development Financial Institutions Fund

Notice of Information Collection and Request for Public Comment

ACTION: Notice and request for public comment.

SUMMARY: The U.S. Department of the Treasury, as part of a continuing effort to reduce paperwork and respondent burden, invites the general public and other federal agencies to take this opportunity to comment on proposed and/or continuing information collections, as required by the Paperwork Reduction Act (PRA) of 1995. Currently, the Community Development Financial Institutions Fund (CDFI Fund), U.S. Department of the Treasury, is soliciting comments concerning information collections utilized by the CDFI Bond Guarantee Program (BG Program). Information on the BG Program can be found on the CDFI Fund's website at https://www.cdfifund.gov/programs-training/programs/cdfi-bond.

DATES: Written comments must be received on or before February 7, 2025 to be assured of consideration.

ADDRESSES: You may submit comments concerning the BG Program information collections via the Federal e-Rulemaking Portal at www.regulations.gov. Follow the instructions on the website for the submission of comments. In general, all comments will be available for inspection at www.regulations.gov. Comments, including attachments and other supporting materials, are part of the public record. Do not submit any information in your comments or supporting materials that you consider confidential or inappropriate for public disclosure.

FOR FURTHER INFORMATION CONTACT: Susan Suckfiel, BG Program Manager, CDFI Fund, U.S. Department of the Treasury, 1500 Pennsylvania Avenue NW, Washington DC 20220, (202) 653-0421 (not a toll-free number) or by email to bgp@cdfi.treas.gov. Information regarding the CDFI Fund and its programs may be obtained through the CDFI Fund's website at http://www.cdfifund.gov.

SUPPLEMENTARY INFORMATION:

Titles: BG Program Information Collections—(1) Qualified Issuer Application, (2) Guarantee Application, (3) Secondary Loan Requirements Certification, (4) Financial Condition Monitoring Report, (5) Pledged Loan Monitoring Report, (6) Tertiary Loan Monitoring Report, (7) Annual Assessment Report, and (8) Secondary Loan Commitment Form.

OMB Number: 1559-0044.

Abstract: The purpose of the Community Development Financial Institutions (CDFI) Bond Guarantee Program (BG Program) is to support CDFI lending by providing Guarantees for Bonds issued by Qualified Issuers as part of a Bond Issue for Eligible Community or Economic Development Purposes. The BG Program provides CDFIs with a source of long-term capital and further the mission of the CDFI Fund to increase economic opportunity and promote community development investments for underserved populations and distressed communities in the United States. The CDFI Fund achieves its mission by promoting access to capital and local economic growth by investing in, supporting, and training Community Development Financial Institutions (CDFIs). The operation of the BG Program is supported by the collection of information across various forms, collectively the BG Program Information Collections: (1) Qualified Issuer Application, (2) Guarantee Application, (3) Secondary Loan Requirements Certification, (4) Financial Condition Monitoring Report, (5) Pledged Loan Monitoring Report, (6) Tertiary Loan Monitoring Report, (7) Annual Assessment Report, and (8) Secondary Loan Commitment Form. There are no significant content changes to the forms; however, minor, non-substantive changes may have been made to certain forms in order to improve the clarity and/or accuracy of the data collections.

Copies of the forms constituting the BG Program Information Collection may be found on the CDFI Fund's website at https://www.cdfifund.gov.

Current Actions: Extension without change of currently approved collection.

Type of Review: Regular.

Affected Public: Approved Eligible CDFIs and Qualified Issuers (QI).

Table 1—All Forms—Estimated Reporting Burden
Form | Number of respondents | Number of responses per respondent | Number of annual responses | Hours per response | Number of hours annually
Bond Guarantee Program Application Materials (Qualified Issuer Application and Guarantee Application) | 20 | 1 | 20 | 80 | 1,600
Financial Condition Monitoring (FCM) Report | 40 | 4 | 160 | 1.5 | 240
Pledged Loan Monitoring (PLM) Report | 40 | 12 | 480 | 1.5 | 720
Tertiary Loan Monitoring (TLM) Report | 15 | 12 | 180 | 1.5 | 270
Annual Assessment | 40 | 1 | 40 | 2 | 80
Secondary Loan Commitment Form and Certification Form | 40 | 1 | 40 | 3 | 120
Total |  |  | 920 |  | 3,030

Request for Comments: Comments submitted in response to this Notice will be summarized and/or included in the request for Office of Management and Budget approval. Comments concerning the BG Program Information Collection are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

An agency may not conduct or sponsor, and a person is not required to respond to, a collection of information unless the collections of information displays a valid OMB control number.

Authority: 12 CFR part 1808.

Pravina Raghavan,
Director, Community Development Financial Institutions Fund.

[FR Doc. 2024-28833 Filed 12-6-24; 8:45 am]

BILLING CODE 4810-05-P